DEPARTMENT OF THE INTERIOR

Bureau of Land Management

[CA-310-0777-XG]

Notice of Public Meeting: Northwest California Resource Advisory Council

AGENCY: Bureau of Land Management, Interior.

ACTION: Notice of public meeting.

SUMMARY: In accordance with the Federal Land Policy and Management Act of 1976 (FLPMA), and the Federal Advisory Committee Act of 1972 (FACA), the U.S. Department of the Interior, Bureau of Land Management (BLM) Northwest California Resource Advisory Council will meet as indicated below.

DATES: The meeting will be held Thursday and Friday, August 17 and 18, 2006, in Shelter Cove and Whitethorn, California. On August 17, the meeting begins at 8:30 a.m. at the Shelter Cove Deli, adjacent to Mal Coombs Park. The committee will depart immediately for a day-long field tour of BLM-managed lands and facilities in the King Range National Conservation Area. Members of the public are welcome. They must provide their own transportation and lunch. On August 18, the council convenes at 8:30 a.m. in the Conference Room of the BLM King Range Project Office, 768 Shelter Cove Rd. in Whitethorn. The meeting is open to the public. Public comments will be taken at 11 a.m.

FOR FURTHER INFORMATION CONTACT: Lynda Roush, BLM Arcata Field Office Manager, (707) 825-2300; or BLM Public Affairs Officer Joseph J. Fontana, (530) 252-5332.

SUPPLEMENTARY INFORMATION: The 12-member council advises the Secretary of the Interior, through the BLM, on a variety of planning and management issues associated with public land management in Northwest California. At this meeting, agenda topics will include a continuing discussion about BLM recreation fees, an update on the Ukiah Resource Management Plan, a report on the Mill Creek management plan, an update on a proposed National Recreation Area for the Sacramento River Bend Area, and a report on Sudden Oak Death Syndrome on the California North Coast. The RAC members will also hear status reports from the Arcata, Redding and Ukiah field office managers. All meetings are open to the public. Members of the public may present written comments to the council. Each formal council meeting will have time allocated for public comments. Depending on the number of persons wishing to speak, and the time available, the time for individual comments may be limited. Members of the public are welcome on field tours, but they must provide their own transportation and lunch. Individuals who plan to attend and need special assistance, such as sign language interpretation and other reasonable accommodations, should contact the BLM as provided above.

Dated: July 10, 2006.
Joseph J. Fontana,
Public Affairs Officer.

[FR Doc. E6-11145 Filed 7-14-06; 8:45 am]

BILLING CODE 4310-40-P